COMMITTEE FOR PURCHASE FROM PEOPLE WHO ARE BLIND OR SEVERELY DISABLED

Procurement List, Proposed Deletions

AGENCY: Committee for Purchase From People Who Are Blind or Severely Disabled.

ACTION: Proposed deletions from the Procurement List.

SUMMARY: The Committee is proposing to delete products from the Procurement List that was previously furnished by a nonprofit agency employing persons who are blind or have other severe disabilities.

Comments must be received on or before: 3/24/2014.

ADDRESSES: Committee for Purchase From People Who Are Blind or Severely Disabled, 1401 S. Clark Street, Suite 10800, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products

Bag, Plastic

NSN: 8105-LL-N77-1370

NSN: 8105-LL-N78-1252

NSN: 8105-LL-N86-0770

NSN: 8105-LL-N86-0771

NSN: 8105-LL-N91-2391

NSN: 8105-LL-N91-2392

NSN: 8105-LL-N91-2393

NSN: 8105-LL-N91-2394

NPA: UNKNOWN

Contracting Activity: Dept. of the Navy, U.S. Fleet Forces Command, Norfolk, VA.

Barry S. Lineback,
Director, Business Operations.

[FR Doc. 2014-03681 Filed 2-20-14; 8:45 am]

BILLING CODE 6353-01-P